DEPARTMENT OF ENERGY

Federal Energy Regulatory Commission

[Project No. 539-015]

Lock 7 Hydro Partners, LLC; Notice of Intent To Prepare an Environmental Assessment

On April 30, 2020, Lock 7 Hydro Partners, LLC filed an application for a new major license for the 2.21-megawatt Mother Ann Lee Hydroelectric Station Water Power Project (Mother Ann Lee Project) (FERC No. 539). The Mother Ann Lee Project is located on the Kentucky River in Mercer, Jessamine, and Garrard Counties, Kentucky. The project does not occupy federal land.

In accordance with the Commission's regulations, on February 26, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Mother Ann Lee Project.

The EA will be issued and circulated for review by all interested parties. All comments filed on the EA will be analyzed by staff and considered in the Commission's final licensing decision.

The application will be processed according to the following schedule. Revisions to the schedule may be made as appropriate.

Milestone | Target date
Commission issues EA | October 2021. ¹
Comments on EA | November 2021.

Any questions regarding this notice may be directed to Joshua Dub at (202) 502-8138 or joshua.dub@ferc.gov.

¹ The Council on Environmental Quality's (CEQ) regulations under 40 CFR 1501.10(b)(1) require that EAs be completed within 1 year of the federal action agency's decision to prepare an EA. This notice establishes the Commission's intent to prepare an EA for the Mother Ann Lee Project. Therefore, in accordance with CEQ's regulations, the EA must be issued within 1 year of the issuance date of this notice.

Dated: August 9, 2021.
Debbie-Anne A. Reese,
Deputy Secretary.

[FR Doc. 2021-17382 Filed 8-12-21; 8:45 am]

BILLING CODE 6717-01-P